DEPARTMENT OF THE INTERIOR

Bureau of Indian Affairs

[212A2100DD/AAKC001030/A0A501010.999900253G]

Indian Gaming; Tribal-State Class III Gaming Compact Taking Effect in the State of Iowa

AGENCY: Bureau of Indian Affairs, Interior.

ACTION: Notice.

SUMMARY: On December 11, 2020, the Ponca Tribe of Nebraska and the State of Iowa submitted a compact governing certain forms of Class III gaming in Iowa. This notice announces that the Compact between the Ponca Tribe of Nebraska and the State of Iowa is taking effect.

DATES: The compact takes effect on March 5, 2021.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts are subject to review and approval by the Secretary. The Secretary took no action on the Compact between the Ponca Tribe of Nebraska and the State of Iowa. Therefore, the Compact is considered to have been approved, but only to the extent it is consistent with IGRA. See 25 U.S.C. 2710(d)(8)(C).

Darryl LaCounte,
Director, Bureau of Indian Affairs Exercising the Delegated Authority of the Assistant Secretary—Indian Affairs.

[FR Doc. 2021-04499 Filed 3-4-21; 8:45 am]

BILLING CODE 4337-15-P